DEPARTMENT OF VETERANS AFFAIRS

Special Medical Advisory Group, Notice of Meeting

As required by the Federal Advisory Committee Act, the Department of Veterans Affairs (VA) gives notice that the Special Medical Advisory Group has scheduled a meeting on Wednesday, September 25, 2002. The meeting will convene at 9 a.m. and end at 2 p.m. The meeting will be held at VA Central Office, 810 Vermont Avenue, NW., Room 830, Washington, DC. The purpose of the meeting is to advise the Secretary and Under Secretary for Health relative to the care and treatment of disabled veterans and other matters pertinent to the Department's Veterans Health Administration.

The agenda for the meeting will include: an update on Enrollment; Budget; Long Term Care; Tertiary and Specialized Care; Waiting Times; Workforce needs; and Capital Asset Realignment for Enhance services program.

All sessions will be open to the public. Those wishing to attend should contact Ms. Celestine Brockington, Office of the Under Secretary for Health (10A), Department of Veterans Affairs. Her phone number is (202) 273-5860.

Dated: August 26, 2002.
By Direction of the Secretary:
Nora E. Egan,
Committee Management Officer.

[FR Doc. 02-22725 Filed 9-5-02; 8:45 am]

BILLING CODE 8320-01-M